FEDERAL TRADE COMMISSION

Granting of Request for Early Termination of The Waiting Period Under The Premerger Notification Rules

Section 7A of the Clayton Act, 15 U.S.C. § 18a, as added by Title IT of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination on the dates indicated of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
January 1, 2015 Thru January 30, 2015
01/02/2015
20150352 | G | Gregory B. Maffei: Liberty Interactive Corporation: Gregory B. Maffei.
20150388 | G | Genstar Capital Partners VI, L.P.: Thoma Bravo Fund X. L.P. Genstar Capital Partners VI, L.P.
01/05/2015
20150391 | G | BCE Inc.; GLENTEL Inc.: BCE Inc.
20150397 | G | EHL 2012 Marital Trust Two; Glenn and Shannon Dellimore; EFIL 2012 Marital Trust Two.
20150401 | G | Thomas H. Lee Parallel (Cayman) Fund VII. L.P.; GTCR Fund IX/A, L.P. Thomas H Lee Parallel (Cayman) Fund VII, L.P.
01/06/2015
20150399 | G | Partners Group Precision Investment Limited; Dynacast International Inc.; Partners Group Precision Investment Limited.
20150405 | G | Asbury Automotive Group, Inc.; J. Clifford Johnson, Jr., Asbury Automotive Group, Inc.
01/07/2015
20150387 | G | InterContinental Hotels Group PLC: Kimpton Group Holding LLC; InterContinental Hotels Group PLC.
20150398 | G | Stichting Administratiekantoor Lauwerecht; Nutreco N.V.; Stichting Administratiekantoor Lauwerecht.
20150403 | G | Providence Equity Partners VII-A L.P.; Lincolnshire Equity Fund IV-A, L.P.; Providence Equity Partners VII-A L.P.
20150407 | G | US Partnership, a to be formed Delaware partnership; PetSmart Inc.; US Partnership, a to be formed Delaware partnership.
01/08/2015
20150392 | G | Adobe Systems Incorporated; Picasso Holding Acquisition I, Inc.; Adobe Systems Incorporated.
01/09/2015
20150313 | G | Actavis plc; Allergan, Inc.; Actavis plc.
20150384 | G | Winters Bros. Waste Holding Company, LLC; Progressive Waste Solutions Ltd.; Winters Bros. Waste Holding Company, LLC.
20150389 | G | Republic Services, Inc.; Tervita Corporation; Republic Services, Inc.
20150412 | G | David W. Nelms; Discover Financial Services; David W. Nelms.
20150414 | G | Rogers Corporation; Steel Partners Holdings, L.P.; Rogers Corporation.
20150436 | G | FedEx Corporation; Herbert S. Shear and Barbara S. Shear; FedEx Corporation.
01/13/2015
20150415 | G | Regal Beloit Corporation; Emerson Electric Co.; Regal Beloit Corporation.
20150422 | G | LetterOne Holdings S.A.; Mason Wells Buyout Fund II, Limited Partnership; LetterOne Holdings S.A.
20150424 | G | VSE Corporation: Mark D. Dobbin: VSE Corporation.
20150429 | G | Oracle Corporation: Datalogix Holdings, Inc.; Oracle Corporation.
01/14/2015
20150372 | G | Cypress Semiconductor Corporation: Spansion Inc.; Cypress Semiconductor Corporation.
20150390 | G | Expedia, Inc.; Sabre Corporation: Expedia, Inc.
20150423 | G | Nasdaq OMX Group, Inc.; Dorsey, Wright & Associates; LLC; Nasdaq OMX Group, Inc.
01/15/2015
20150417 | G | Carl C. Icahn; The Manitowoc Company, Inc.; Carl C. Icahn.
01/16/2015
20150376 | G | Credit Bureau Stock Trust; Providence Equity Partners VI L.P.; Credit Bureau Stock Trust.
20150409 | G | Roper Industries, Inc.: VSS Structured Capital II, L.P.; Roper Industries, Inc.
20150428 | G | California Physicians' Service.; PAMC, Ltd.; California Physicians' Service.
20150430 | G | Anchorage Capital Partners Offshore Ltd.; New Koosharem Corporation; Anchorage Capital Partners Offshore Ltd.
20150431 | G | BlueMountain Credit Alternatives Fund Ltd.; New Koosharem Corporation; BlueMountain Credit Alternatives Fund Ltd.
20150432 | G | New Koosharem Corporation; MSCP V EB Holdco, LLC; New Koosharem Corporation.
20150434 | G | Energy Transfer Equity, L.P.; Exxon Mobil Corporation; Energy Transfer Equity, L.P.
20150448 | G | Bain Capital Europe Fund III. L.P.; CRH plc; Bain Capital Europe Fund III, L.P.
20150461 | G | Silver Oak Services Partners II, L.P.; Dr. Ronald B. Montano; Silver Oak Services Partners II, L.P.
01/20/2015
20150383 | G | Glenn F. Straub; Revel AC, Inc.; Glenn F. Straub.
20150418 | G | Corvex Master Fund LP; American Realty Capital Properties, Inc.; Corvex Master Fund LP.
20150440 | G | Amgen Inc.; Kite Pharma, Inc.; Amgen Inc.
20150444 | G | Wingate Partners V, L.P.; Myers Industries, Inc.; Wingate Partners V. L.P.
20150446 | G | The Progressive Corporation; ARX Holding Corp.; The Progressive Corporation.
20150449 | G | Asahi Holdings. Inc.; Johnson Matthey Public Limited Company; Asahi Holdings, Inc.
20150454 | G | Rogers Control Trust; BCE Inc.; Rogers Control Trust.
20150456 | G | Arbor Investments III, L.P.; Shumway RE Holdings, Inc.; Arbor Investments III, L.P.
20150457 | G | Linden Capital Partners II, LP.; Scott A. Severson and Victoria C. Severson; Linden Capital Partners II, LP.
20150468 | G | Utility One Source L.P.; CTEC Holding Co., LLC; Utility One Source L.P.
01/21/2015
20150433 | G | Bristol-Myers Squibb Company; California Institute for Biomedical Research, Bristol-Myers Squibb Company.
01/22/2015
20150426 | G | Sanofi; Bayer AG; Sanofi.
20150437 | G | Johnson & Johnson; MacroGenics, Inc.; Johnson & Johnson.
20150439 | G | SCTG, LLC; SCANA Corporation; SCTG, LLC.
20150450 | G | Farmers Mutual Hall Insurance Company of Iowa; Deere & Company; Farmers Mutual Hall Insurance Company of Iowa.
20150466 | G | Cisco Systems, Inc.; Altiostar Networks, Inc.; Cisco Systems, Inc.
20150471 | G | Anthem, Inc.; Miguel B. Fernandez; Anthem, Inc.
01/23/2015
20150465 | G | Interfor Corporation; Kamilche Company; lnterfor Corporation.
01/26/2015
20150467 | G | Robert Knit; Carolina Container Company; Robert Kraft.
20150472 | G | ITO EN, LTD.; Centre Bregal Partners, L.P.; ITO EN, LTD.
20150473 | G | LSF9 Stardust Holdings LLC; HeidelbergCement AG; LSF9 Stardust Holdings LLC.
20150474 | G | Francisco Partners III, L.P.; Bill Creach; Francisco Partners III, L.P.
20150477 | G | Coeur Mining, Inc.; Goldcorp Inc.; Coeur Mining, Inc.
20150478 | G | Andy and Joyce Lee; West Corporation; Andy and Joyce Lee.
20150479 | G | Repsol S.A.; Talisman Energy Inc.; Repsol S.A.
20150481 | G | Envision Healthcare Holdings, Inc.; On Assignment, Inc.; Envision Healthcare Holdings, Inc.
20150485 | G | Coach, Inc.; Stefan Kaluzny; Coach, Inc.
01/27/2015
20140663 | S | Cerbems Institutional Partners V, L.P.; Safeway Inc.; Cerberus Institutional Partners V, L.P.
20150411 | G | Honeywell International Inc.; Dover Coporation; Honeywell International Inc.
20150463 | G | Evergreen Pacific Partners II, L.P.; Christopher A. Polley; Evergreen Pacific Partners II, L.P.
20150464 | G | Evergreen Pacific Partners II, L.P.; Donald J. Bebout; Evergreen Pacific Partners II, L.P.
20150483 | G | Temasek Holdings (Private) Limited; Archer-Daniels-Midland Company; Temasek Holdings (Private) Limited.
20150490 | G | Tallgrass Energy Partners, LP; Tallgrass Development, LP; Tallgrass Energy Partners, LP.
20150491 | G | Shire plc; NPS Pharmaceuticals, Inc.; Shire plc.
20150494 | G | Greenbriar Equity Fund III, L.P.; Sterling Investment Partners II, L.P. Greenbriar Equity Fund III, L.P.
20150496 | G | Steven Boal; Coupons.com Incorporated; Steven Boal.
01/28/2015
20150310 | G | John Leonard Morris; Platinum Equity Capital Boat Partners, L.P.; John Leonard Morris.
20150441 | G | Pfizer Inc.; OPKO Health, Inc.; Pfizer Inc.
01/29/2015
20150420 | G | Thenno Fisher Scientific Inc.; Advanced Scientifics, Inc., Thermo Fisher Scientific Inc.
01/30/2015
20140879 | G | Sun Pharmaceutical Industries Limited, Daiichi Sankyo Co., Ltd.; Sun Pharmaceutical Industries Limited.

FOR FURTHER INFORMATION CONTACT: Renee Chapman, Contact Representative or Theresa Kingsberry, Legal Assistant, Federal Trade Commission, Premerger Notification Office, Bureau of Competition, Room Cc-5301, Washington, DC 20024, (202) 326-3100.

By Direction of the Commission.
Donald S. Clark,
Secretary.

[FR Doc. 2015-02620 Filed 2-9-15; 8:45 am]

BILLING CODE 6750-01-M